ENVIRONMENTAL PROTECTION AGENCY

[FRL-9779-6]

Notice of Availability for Public Review and Comment: Draft EPA Climate Change Adaptation Plan

AGENCY: Environmental Protection Agency (EPA).

ACTION: Notice.

SUMMARY: Scientific evidence demonstrates that the climate is changing at an increasingly rapid rate, outside the range to which society has adapted in the past. Climate change can pose significant challenges to the EPA's ability to fulfill its mission. The U.S. Environmental Protection Agency is committed to identifying and responding to the challenges that a changing climate poses to human health and the environment. It is essential; therefore, that the EPA adapt to climate change in order to continue fulfilling its statutory, regulatory and programmatic requirements, chief among these protection of human health and the environment. Adaptation will involve anticipating and planning for changes in climate and incorporating considerations of climate change into many of the Agency's programs, policies, rules and operations to ensure they are effective under changing climatic conditions. Adaptation also necessitates close coordination between EPA and its many partners and stakeholders.

EPA and other Federal Agencies and Departments have developed draft Agency Climate Change Adaptation Plans in response to the President's October 2009 Executive Order (E.O. 13514—“Federal Leadership in Environmental, Energy, and Economic Performance”) and the March, 2011 Implementing Instructions to all Federal Department and Agencies. Today, EPA announces the availability of a public review draft of its Agency Plan. The draft Plan will be available for a 60-day public review.

DATES: The public should respond to the EPA with comment via the public docket no later than April 9, 2013. Only comments received by the deadline can be considered by the Agency in finalizing its plan.

ADDRESSES: If you have questions about responding to this notice, please contact Catherine Allen by phone (202-566-1039), or by mail (1200 Pennsylvania Ave. NW., Washington, DC 20460).

The public review draft of EPA's Climate Change Adaptation Plan has been posted to a public docket and is available on the Agency docket Web site at this URL address: http://www.epa.gov/dockets/index.htm. It is Docket Number EPA-HQ-OA-2012-0247.

SUPPLEMENTARY INFORMATION: EPA is working to fulfill its mission to protect human health and the environment. Many of the goals EPA is working to attain (e.g., clean air, safe drinking water) are sensitive to changes in weather and climate. Until now, EPA has been able to assume that climate is relatively stable and future climate would mirror past climate. However, with climate changing at an increasingly rapid rate and outside the range to which society has adapted in the past, climate change is posing new challenges to EPA's ability to fulfill its mission.

This Plan will help guide the Agency to prepare for future changes in climate and to incorporate considerations of climate change into its mission-driven activities. Climate adaptation planning will help EPA continue to fulfill its mission of protecting human health and the environment even as the climate changes.

EPA considers public input to be essential for the development of this Plan. This input will also help the Agency strengthen its partnerships with states, tribes, local communities, and non-governmental organizations—many of which have already begun to develop and implement adaptation measures.

Dated: January 24, 2013.
Michael Goo,
Associate Administrator, Office of Policy.

[FR Doc. 2013-02918 Filed 2-7-13; 8:45 am]

BILLING CODE 6560-50-P